NUCLEAR REGULATORY COMMISSION

[Docket Nos. 50-373; 50-374; License Nos. NPF-11; NPF-18; EA-04-170]

In the Matter of Exelon Generation Company, LLC, LaSalle County Station, 2601 North 21st Road, Marseilles, IL 61341-9757; Confirmatory Order Modifying License (Effective Immediately)

I

Exelon Generation Company, LLC (Exelon or licensee) is the holder of Facility Operating License Nos. NPF-11 and NPF-18 issued by the U.S. Nuclear Regulatory Commission (NRC or Commission) pursuant to 10 CFR part 50 on April 17, 1982, and February 16, 1983. The licenses authorize the operation of LaSalle County Station, Units 1 and 2 (LaSalle), in accordance with conditions specified therein. The facility is located on the licensee's site in LaSalle County, IL.

II

On January 25, 2004, three employees of The Venture (Venture), contractors to Exelon, and their foreman, also a Venture employee, entered a High Radiation Area (HRA) in the LaSalle Unit 1 Reactor Building raceway to conduct preparations for valve replacement. The contractors did not sign onto the required HRA radiation work permit (RWP) or receive the required briefing for work in the HRA. This resulted in an apparent violation of LaSalle Technical Specification (TS) 5.7.1, “High Radiation Areas with Dose Rates Not Exceeding 1.0 rem/hour at 30 Centimeters from the Radiation Source or from any Surface Penetration by the Radiation,” which requires that an appropriate RWP be utilized by radiation workers and that a pre-job brief be provided prior to entry into any HRA. The NRC's Office of Investigations determined that two of the three craft workers and the foreman willfully violated the station radiation procedures implementing the TSs.

In a letter dated November 19, 2004, transmitting the Summary of Investigation, the NRC provided Exelon an opportunity to address the apparent violation. In a letter dated December 17, 2004, Exelon responded to the apparent violation by acknowledging that a willful violation occurred, that the violation should be categorized at Severity Level IV, and that the violation met the NRC criteria to be categorized as a non-cited violation (NCV). In a letter dated May 2, 2005, the NRC categorized the violation at Severity Level III and issued Exelon a “Notice of Violation and Proposed Imposition of Civil Penalty—$60,000,” for LaSalle. On May 12, 2005, in response to the NRC's enforcement action, Exelon informed the NRC of its intent to appeal the Notice of Violation and Proposed Imposition of Civil Penalty and requested the use of the Alternative Dispute Resolution (ADR) process as a means to obtain resolution.

ADR is a general term encompassing various techniques for resolving conflict outside of court using a neutral third party, and the NRC currently has a pilot program for using ADR. The technique that the NRC decided to employ during the pilot program, which is now in effect, is mediation.

III

On July 11, 2005, the NRC and Exelon met at the Exelon headquarters in Warrenville, IL, at an ADR session mediated by a professional mediator and arranged through Cornell University's Institute on Conflict Resolution. As a result of this ADR session, all parties reached a settlement agreement, which was signed by both Exelon and NRC representatives on July 11, 2005. Subsequent to the ADR mediation session, the parties agreed to the addition of two time frames. The phrase, “prior to the next two refueling outages” replaced the word “each” in item 2.I, and a corrective actions completion date of no later than 6 months from the date of issuance of this Confirmatory Order, unless otherwise stated, was added to section IV of this Confirmatory Order. This resulted in the following stipulations:

1. The NRC issued a May 2, 2005, Notice of Violation and Proposed Imposition of a Civil Penalty (Severity Level III violation, $60,000 civil penalty) based upon three craft workers and their foreman willfully entering a posted HRA without signing the required radiation work permit or receiving a HRA briefing in violation of TSs 5.7.1.b and e.

2. After having had an opportunity to examine these issues during mediated ADR, Exelon and the NRC have concluded that they can resolve all issues on a mutually satisfactory basis. Accordingly, Exelon and the NRC have agreed to enter this settlement agreement to provide for full settlement of any enforcement matters between Exelon and the NRC related to or arising out of events which were the subject of the NRC's proposed enforcement action on May 2, 2005. Both Exelon and the NRC agree to the following:

a. A willful violation occurred as documented in the NRC's May 2, 2005, Notice of Violation; however, the NRC agreed to categorize this as a Severity Level IV violation and agreed not to consider it as part of the civil penalty assessment process (NRC Enforcement Policy, section VI.C.2) should the NRC consider future enforcement actions against LaSalle.

b. A Confirmatory Order is an appropriate enforcement sanction to confirm action in this case, and the NRC agrees to a reduced civil penalty of $10,000.

c. Exelon will document in LaSalle station procedures or training material, the following corrective actions:

i. Revise initial radiation worker training material to highlight HRA entry requirements and consequences for the radiation worker if requirements are not met;

ii. Revise RWP instructions that allow HRA entry to state “high radiation entry brief required;”

iii. Add warnings to worker acknowledgments on the computer screen during the access control electronic dosimetry log-in process;

iv. Add the radiation protection aid for conducting HRA briefings; and

v. Require a signature from transient refueling outage workers prior to issuance of dosimetry that acknowledges their understanding of HRA entry requirements and the consequences for violating them.

d. During the first 10 days, or longer as necessary, of the next two refueling outages, LaSalle will have greeters at primary access points to the radiologically controlled area to enhance awareness of radiological controls.

e. For the next two refueling outages, all transient refueling outage workers, except as specifically authorized by the Radiation Protection Manager, will be required to attend and pass a dynamic learning activity on proper HRA entry.

f. LaSalle will perform an industry benchmark evaluation of HRA controls, and evaluate changes to existing practices prior to the next refueling outage.

g. In addition to the corrective actions already documented in Exelon's December 17, 2004 response, Exelon will require that Venture revise its Operating Procedures, which are applicable fleet-wide, to further assure compliance with HRA entry requirements and to specifically include the following requirements:

i. That a discussion of pertinent radiological practices be conducted at each daily shift brief;

ii. That Venture employees who will work in radiation areas will read, understand, and sign a pledge to attest to his/her commitment to follow all radiological requirements. (Each pledge will be co-signed by the Venture site manager, project superintendent, or site as low as reasonably achievable (ALARA) coordinator and will be retained for a period of one year.);

iii. That Venture superintendents will be present at select pre-job briefs involving HRA entries; and

iv. That Venture will participate in Exelon Radiation Protection Manager peer group meetings at least semi-annually to evaluate and take action on radiation protection issues.

h. Exelon will conduct a review of the implementation and effectiveness of its and Venture's corrective actions covered in this Order. This review shall be conducted for at least the next two refueling outages at LaSalle. The results of each review will be made available for NRC review upon request. The review shall be conducted by knowledgeable individuals independent of the LaSalle facility.

i. The LaSalle Plant Manager or Site Vice President will meet with contract leadership prior to the next two refueling outages to establish personnel expectations in following radiological work requirements.

j. The scope of this agreement includes the events which were the subject of the NRC's proposed enforcement action on May 2, 2005.

By a letter from Exelon to the NRC dated August 25, 2005, Exelon documented these settlement agreement stipulations and acknowledged concurrence with the terms and conditions of the settlement agreement dated and signed by representatives of Exelon and the NRC on July 11, 2005.

In view of the Confirmatory Order, which was consented to by Exelon, as evidenced by your signed “Consent and Hearing Waiver Form” (copy attached) dated November 18, 2005, and based, in part, on the expectation that Exelon will satisfactorily implement the conditions of this Confirmatory Order; the NRC is reclassifying the violation from Severity Level III to Severity Level IV and will not consider it as part of the civil penalty assessment process (Enforcement Policy, section VI.C.2) should the NRC consider future enforcement actions at LaSalle. Additionally, the NRC will reduce the proposed $60,000 civil penalty to $10,000.

I find that the licensee's commitments as set forth in section IV are acceptable and necessary and conclude that, with these commitments, the public health and safety are reasonably assured. In view of the foregoing, I have determined that the public health and safety require that the licensee's commitments be confirmed by this Order. Based on the above and the licensee's consent, this Order is immediately effective upon issuance.

IV

Accordingly, pursuant to sections 103, 161b, 161i, 161o, 182, and 186 of the Atomic Energy Act of 1954, as amended, and the Commission's regulations in 10 CFR 2.202 and 10 CFR part 50, it is hereby ordered, effective immediately, that License Nos. NPF-11 and NPF-18 are modified as follows:

By no later than 6 months from the date of issuance of this Confirmatory Order, unless otherwise stated, the licensee will complete the following:

1. Exelon will document in LaSalle station procedures or training material, the following corrective actions:

a. Revise initial radiation worker training material to highlight HRA entry requirements and consequences for the radiation worker if requirements are not met;

b. Revise RWP instructions that allow HRA entry to state “high radiation entry brief required;”

c. Add warnings to worker acknowledgments on the computer screen during the access control electronic dosimetry log-in process;

d. Add the radiation protection aid for conducting HRA briefings; and

e. Require a signature from transient refueling outage workers prior to issuance of dosimetry that acknowledges their understanding of HRA entry requirements and the consequences for violating them.

2. During the first 10 days, or longer as necessary, of the next two refueling outages, LaSalle will have greeters at primary access points to the radiologically controlled area to enhance awareness of radiological controls.

3. For the next two refueling outages, all transient refueling outage workers, except as specifically authorized by the Radiation Protection Manager, will be required to attend and pass a dynamic learning activity on proper HRA entry.

4. LaSalle will perform an industry benchmark evaluation of HRA controls, and evaluate changes to existing practices prior to the next refueling outage.

5. In addition to the corrective actions already documented in Exelon's December 17, 2004 response, Exelon will require that Venture revise its Operating Procedures, which are applicable fleet-wide, to further assure compliance with HRA entry requirements and to specifically include the following requirements:

a. That a discussion of pertinent radiological practices be conducted at each daily shift brief;

b. That Venture employees who will work in radiation areas will read, understand, and sign a pledge to attest to his/her commitment to follow all radiological requirements. (Each pledge will be co-signed by the Venture site manager, project superintendent, or site as low as reasonably achievable (ALARA) coordinator and will be retained for a period of one year.);

c. That Venture superintendents will be present at select pre-job briefs involving HRA entries; and

d. That Venture will participate in Exelon Radiation Protection Manager peer group meetings at least semi-annually to evaluate and take action on radiation protection issues.

6. Exelon will conduct a review of the implementation and effectiveness of its and Venture's corrective actions covered in this Order. This review shall be conducted for at least the next two refueling outages at LaSalle. The results of each review will be made available for NRC review upon request. The review shall be conducted by knowledgeable individuals independent of the LaSalle facility.

7. The LaSalle Plant Manager or Site Vice President will meet with contract leadership prior to the next two refueling outages to establish personnel expectations in following radiological work requirements.

8. The licensee shall pay a civil penalty in the amount of $10,000 within 30 days of the date of this Order, in accordance with NUREG/BR-0254. In addition, at the time of making the payment, the licensee shall submit a statement indicating when and by what method payment was made, to the Director, Office of Enforcement, U.S. Nuclear Regulatory Commission, One White Flint North, 11555 Rockville Pike, Rockville, MD 20852-2738.

The Director, Office of Enforcement, may relax or rescind, in writing, any of the above conditions upon a showing by the licensee of good cause.

V

Any person adversely affected by this Confirmatory Order, other than the licensee, may request a hearing within 20 days of its issuance. Where good cause is shown, consideration will be given to extending the time to request a hearing. A request for extension of time must be made in writing to the Director, Office of Enforcement, U.S. Nuclear Regulatory Commission, Washington, DC 20555, and include a statement of good cause for the extension. Any request for a hearing shall be submitted to the Secretary, U.S. Nuclear Regulatory Commission, ATTN: Chief, Rulemakings and Adjudications Staff, Washington, DC 20555. Copies of the hearing request shall also be sent to the Director, Office of Enforcement, U.S. Nuclear Regulatory Commission, Washington, DC 20555; to the Assistant General Counsel for Materials Litigation and Enforcement at the same address; to the Regional Administrator, NRC Region III, 2443 Warrenville Road, Suite 210, Lisle, IL 60532-4352, and to the licensee. Because of continuing disruptions in delivery of mail to U.S. Government offices, it is requested that answers and requests for hearing be transmitted to the Secretary of the Commission either by means of facsimile transmission to (301) 415-1101 or by e-mail to hearingdocket@nrc.gov and also to the Office of the General Counsel either by means of facsimile transmission to (301) 415-3725 or by e-mail to OGCMailCenter@nrc.gov. If a person other than the licensee requests a hearing, that person shall set forth with particularity the manner in which his interest is adversely affected by this Order and shall address the criteria set forth in 10 CFR 2.309(d) and (f).

If a hearing is requested by a person, other than the licensee, whose interest is adversely affected, the Commission will issue an Order designating the time and place of any hearing. If a hearing is held, the issue to be considered at such hearing shall be whether this Confirmatory Order should be sustained.

In the absence of any request for hearing, or written approval of an extension of time in which to request a hearing, the provisions specified in section IV above shall be final 20 days from the date of this Order without further order or proceedings. If an extension of time for requesting a hearing has been approved, the provisions specified in section IV shall be final when the extension expires if a hearing request has not been received. An answer or a request for hearing shall not stay the immediate effectiveness of this order.

For the Nuclear Regulatory Commission.
Dated this 22nd day of November 2005.
Michael R. Johnson,
Director, Office of Enforcement.

Attachment—Consent and Hearing Waiver Form

Exelon Generation Company, LLC (EGC) hereby agrees to comply with the commitments described in the NRC's letter dated November 15, 2005, and agrees to incorporation of those commitments into a Confirmatory Order that will be immediately effective upon issuance. I recognize that by signing below, EGC consents to the issuance of the Confirmatory Order, effective immediately, with the commitments agreed to at an Alternative Dispute Resolution mediation session held in Warrenville, IL, on July 11, 2005; as documented in an August 25, 2005, letter from EGC to the NRC; and as incorporated in the draft Confirmatory Order. I also recognize that by signing below, pursuant to 10 CFR 2.202(a)(3) and (d), EGC waives the right to request a hearing on all or any part of the Order.

Dated: November 18, 2005.

T. S. O'Neill,

Vice President, Licensing and Regulatory Affairs.

[FR Doc. E5-6827 Filed 12-2-05; 8:45 am]

BILLING CODE 7590-01-P